DEPARTMENT OF ENERGY

Federal Energy Regulatory Commission

[Docket No. EC05-86-000]

La Paloma Generating Company, LLC, La Paloma Holding Company, LLC and La Paloma Acquisition Co, LLC; Notice of Filing

May 27, 2005.

Take notice that on May 24, 2005, La Paloma Generating Company, LLC (Genco), La Paloma Holding Company, LLC (La Paloma Holding), and La Paloma Acquisition Co, LLC (La Paloma Acquisition Co) (collectively, Applicants) submitted an application pursuant to section 203 of the Federal Power Act for authorization of a disposition of jurisdictional facilities, whereby La Paloma Holding proposes to transfer to La Paloma Acquisition Co one-hundred percent of the membership interests in Genco, which owns and operates an approximately 1,022 MW combined cycle generating facility in the California Independent System Operator (CAISO) market, and certain related rights and assets. Genco states that the sale of the membership interests in Genco from La Paloma Holding to La Paloma Acquisition Co will constitute the indirect disposition of certain jurisdictional facilities and assets held by Genco, including a market-based rate wholesale power sales tariff on file with the Commission, certain interconnection facilities associated with the generating facility, and related FPA jurisdictional accounts, books and records. Genco also states that the Applicants seek expedited review of the application and request confidential treatment of certain documents submitted therewith.

Applicants state that a copy of the application was served upon the California Public Utilities Commission.

Any person desiring to intervene or to protest in the above proceeding must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filing in the above proceeding is accessible in the Commission's eLibrary system. It is also available for review in the Commission's Public Reference Room in Washington, DC. There is an eSubscription link on the web site that enables subscribers to receive e-mail notification when a document is added to a subscribed dockets(s). For assistance with any FERC Online service, please e-mail FERCOnlinSupport@ferc.gov. or call (866) 208-3676 (toll free). For TTY, call (202) 502-8659.

Linda Mitry,
Deputy Secretary.

[FR Doc. E5-2813 Filed 6-2-05; 8:45 am]

BILLING CODE 6717-01-P